ENVIRONMENTAL PROTECTION AGENCY

40 CFR Part 300

[FRL-8456-1]

National Oil and Hazardous Substance Pollution Contingency Plan National Priorities List Update

AGENCY: Environmental Protection Agency.

ACTION: Direct final notice for partial deletion of the RSR Corporation Superfund Site, Operable Unit No. 4 and Subarea 1 of Operable Unit No. 5 from the National Priorities List.

SUMMARY: The United States Environmental Protection Agency (EPA) Region 6 is publishing a direct final notice for partial deletion of the RSR Corporation Superfund Site (RSR Site), Operable Unit (OU) No. 4 and Subarea 1 of Operable Unit (OU) No. 5, located in Dallas, Dallas County, Texas, from the National Priorities List (NPL). This partial deletion does not include OU No. 1, OU No. 2, OU No. 3 or Subareas 2, 3, and 4 of OU NO. 5. The partial deletion for OU No. 4 and Subarea 1 of OU No. 5 came at the request of a developer to help facilitate the purchase of these properties. The EPA plans to delete the other operable units and areas of the RSR Superfund Site in 2008. The NPL, promulgated pursuant to Section 105 of the Comprehensive Environmental Response, Compensation, and Liability Act (CERCLA) of 1980, as amended, is appendix B of 40 CFR Part 300, which is the National Oil and Hazardous Substances Pollution Contingency Plan (NCP). This direct final notice for partial deletion is being published by the EPA with the concurrence of the State of Texas, through the Texas Commission on Environmental Quality (TCEQ), because the EPA has determined that all appropriate response actions under CERCLA have been completed and, therefore, further remedial action pursuant to CERCLA is not appropriate for OU No. 4 and Subarea 1 of OU No. 5.

DATES: This direct final notice for partial deletion will be effective October 16, 2007 unless the EPA receives adverse comments by September 17, 2007. If adverse comments are received, the EPA will publish a timely withdrawal of the direct final notice of partial deletion in the Federal Register informing the public that the partial deletion will not take effect.

ADDRESSES: Submit your comments, identified by Docket ID No. EPA-HQ-SFUND-1995-0005, Notice Phase-1, by one of the following methods:

http://www.regulations.gov: Follow the on-line instruction for submitting comments.

E-mail: mail to coates.janetta@epa.gov.

Fax: 214-665-6660

Mail: Janetta Coats, Community Involvement Coordinator, U.S. EPA Region 6 (6SF-PO), 1445 Ross Avenue, Dallas, TX 75202-2733, (214) 665-7308 or 1-800-533-3508.

Instructions: Direct your comments to Docket ID No. EPA-HQ-SFUND-1995-0005, Notice Phase-1. The EPA's policy is that all comments received will be included in the public docket without change and may be available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means the EPA will not know your identity or contact information unless you provide it in the body of your comment. If you send an e-mail comment directly to the EPA without going through http://www.regulations.gov, your e-mail address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the information repositories.

Information Repositories: Comprehensive information about the Site is available for viewing and copying during central standard time at the Site information repositories located at: U.S. EPA Region 6 Library, 7th Floor, 1445 Ross Avenue, Suite 1200, Dallas, Texas 75202-2733, (214) 665-6424, Monday through Friday 9 a.m. to 12 p.m. and 1 p.m. to 4 p.m.; Dallas West Branch Library, 2332 Singleton Boulevard, Dallas, Texas 75212, (214) 670-6445, Monday, Tuesday, and Thursday 10 a.m. to 9 p.m.; Wednesday and Saturday 10 a.m. to 5 p.m.; Texas Commission on Environmental Quality (TCEQ), Central File Room Customer Service Center, Building E, 12100 Park 35 Circle, Austin, Texas 78753, (512) 239-2900, Monday through Friday 8 a.m. to 5 p.m.

FOR FURTHER INFORMATION CONTACT: Carlos A. Sanchez, Remedial Project Manager (RPM), U.S. EPA Region 6 (6SF-R), 1445 Ross Avenue, Dallas, TX 75202-2733, (214) 665-8507 or 1-800-533-3508 (sanchez.carlos@epa.gov).

SUPPLEMENTARY INFORMATION:

Table of Contents

I. Introduction

II. NPL Deletion Criteria

III. Deletion Procedures

IV. Basis for Partial Deletion

V. Partial Deletion Action

I. Introduction

The EPA Region 6 office is publishing this direct final notice for partial deletion of the RSR Corporation Superfund Site, OU No. 4 and Subarea 1 of OU No. 5 from the NPL.

The EPA identifies sites that appear to present a significant risk to public health or the environment and maintains the NPL as the list of those sites. As described in § 300.425(e)(3) of the NCP, sites deleted from the NPL remain eligible for remedial actions if conditions at a deleted site warrant such action.

Because the EPA considers this action to be noncontroversial and routine for these RSR operable units, the EPA is taking it without prior publication of a notice of intent to partial delete. This action will be effective October 16, 2007 unless the EPA receives adverse comments by September 17, 2007 on this document. If adverse comments are received within the 30-day public comment period on this document, the EPA will publish a timely withdrawal of this direct final notice for partial deletion before the effective date of the partial deletion and the partial deletion will not take effect. The EPA will, as appropriate, prepare a response to comments and continue with the partial deletion process on the basis of the notice of intent to partial delete and the comments already received. There will be no additional opportunity to comment.

Section II of this document explains the criteria for deleting sites from the NPL. Section III discusses procedures that the EPA is using for this action. Section IV discusses the RSR Corporation Superfund Site and demonstrates how it meets the deletion criteria. Section V discusses the EPA's action to delete OU No. 4 and Subarea 1 of OU No. 5 from the NPL unless adverse comments are received during the public comment period.

II. NPL Deletion Criteria

The NCP establishes the criteria that EPA uses to delete sites from the NPL. In accordance with 40 CFR 300.425(e), sites may be deleted from the NPL where no further response is appropriate to protect human health or the environment. In making such a determination pursuant to § 300.425(e), EPA will consider, in consultation with the State, whether any of the following criteria have been met:

i. Section 300.425(e)(1)(i). Responsible parties or other persons have implemented all appropriate response actions required; or

ii. Section 300.425(e)(1)(ii). All appropriate Fund-financed (Hazardous Substance Superfund Response Trust Fund) response under CERCLA has been implemented, and no further response action by responsible parties is appropriate; or,

iii. Section 300.425(e)(1)(iii). The remedial investigation has shown that the release poses no significant threat to public health or the environment and, therefore, the taking of remedial measures is not appropriate.

Deletion of a portion of a site from the NPL does not preclude eligibility for subsequent Fund-financed actions at the area deleted if future site conditions warrant such actions. Section 300.425(e)(3) of the NCP provides that Fund-finances actions may be taken at sites that have been deleted from the NPL. A partial deletion of a site from the NPL does not affect or impede EPA's ability to conduct CERCLA response activities at areas not deleted and remaining on the NPL. In addition, deletion of a portion of site from the NPL does not affect the liability of responsible parties or impede agency efforts to recover costs associated with response efforts.

III. Deletion Procedures

Deletion of a portion of a site from the NPL does not itself create, alter, or revoke any person's rights or obligations. The NPL is designed primarily for informational purposes and to assist Agency management.

The following procedures apply to deletion of OU No. 4 and Subarea 1 of OU No. 5:

(1) The EPA has recommended the partial deletion and has prepared the relevant documents.

(2) The State of Texas through the Texas Commission on Environmental Quality concurs with the partial deletion of the RSR Site from the NPL.

(3) Concurrently with the publication of this direct final notice for partial deletion, a notice of the availability of the parallel notice of intent for partial deletion published today in the “Proposed Rules” section of the Federal Register is being published in a major local newspaper of general circulation at or near the RSR Site and is being distributed to appropriate federal, state, and local government officials and other interested parties; the newspaper notice announces the 30-day public comment period concerning the notice of intent for partial deletion the RSR Site from the NPL.

(4) The EPA placed copies of documents supporting the partial deletion in the Site information repositories identified above.

(5) If adverse comments are received within the 30-day public comment period on this document, the EPA will publish a timely notice of withdrawal of this direct final notice for partial deletion before its effective date and will prepare a response to comments and continue with the partial deletion process on the basis of the notice of intent for partial deletion and the comments already received.

IV. Basis for Partial Deletion

The following information provides the EPA's rationale for partial deletion of the RSR Site from the NPL. This partial deletion only includes OU No. 4 and Subarea 1 of OU No. 5. Figures, with coordinates, of the areas to be deleted will be made available at the Site information repositories and included with the deletion docket. Deletion of these areas of the RSR Site was requested by a developer to help facilitate the purchase of these properties. Cleanup activities have been completed for the other operable units and areas of the RSR Site. However, institutional controls are needed for OU No. 3 before the rest of the RSR Site can be deleted from the NPL. Plans are to have the institutional controls in place and to delete the other operable units and areas of the RSR Site in 2008.

Site Location

The RSR Site is located in west Dallas, Texas and encompasses an area approximately 13.6 square miles in size. The RSR Site is very diverse and includes large single and multi-family residential neighborhoods, multi-family public housing areas and some industrial, commercial and retail establishments. The population in this area is more than 17,000. The RSR site consists of five operable units (OUs);

• OU No. 1—Residential Properties.

• OU No. 2—Dallas Housing Authority Property.

• OU No. 3—Landfills/Slag Piles.

• OU No. 4—Smelter Facility.

• OU No. 5—Battery Breaking Facility/Other Industrial Property.

Site History

For approximately 50 years from the 1930s to 1984, a secondary lead smelting facility (OU No. 4), located at the southeast corner of the intersection of Westmoreland Road and Singleton Boulevard, processed used batteries and other lead-bearing materials into pure lead, lead alloys, and other lead products. The basic inputs into the smelting process were lead scrap and lead from used car batteries. In the first step of the smelting process the batteries were disassembled at the battery wrecking facility (OU No. 5) using hammer-mills to break the batteries into small pieces (e.g., battery chips). The lead posts and grids were then sent across the street to the smelter facility (OU No. 4) to produce soft pure lead or specialty alloys. In the refining process alloy elements, such as antimony, arsenic, and cadmium, were added as necessary to produce the desired product. Slag was generated as part of the smelting process and is made up of oxidized impurities and molten lead. Slag that was not reprocessed in the smelter furnace and battery chips that were not reprocessed, were considered waste material.

Historical information indicates that from approximately 1934 until 1971 the lead smelting facility and associated battery wrecking operations were operated by Murph Metals, Inc. or its predecessors. In 1971, RSR Corporation acquired the lead smelting operation and operated under the name Murph Metals. RSR continued to operate the smelter and associated battery wrecking operations until the acquisition of the facility by Murmur Corporation (Murmur). In 1984, the City of Dallas declined to renew the smelter's operating permit. The smelter and associated battery wrecking facility have not been operated since 1984.

During 1984 and 1985, the Texas Commission on Environmental Quality (TCEQ) [formerly the Texas Natural Resource Conservation Commission (TNRCC)] conducted inspections on the smelter and battery wrecking facilities and identified several violations that involved the treatment, storage or disposal of hazardous wastes. In 1986, TNRCC approved a closure plan to be implemented by Murmur for portions of the battery wrecking facility located at OU No. 5. However, Murmur was unable to obtain certification by TNRCC of final closure, due to a dispute between Murmur and its contractor. In June of 1991 the State of Texas referred the case regarding the closure to the Superfund program for assessment. Immediately following this referral, TNRCC began receiving complaints from residents alleging that slag and battery chips had been disposed of on their properties.

In 1991, the EPA began soil sampling in west Dallas to determine the presence of soil lead contamination. The results indicated that contamination existed in some residential areas near the smelter (OU No. 1) where fallout of contamination from the smelter stack had occurred and where battery chips or slag was used as fill in residential yards and driveways. As a result, the EPA initiated an emergency removal action in the residential areas consisting of removal and off-site disposal of contaminated soil and debris in excess of removal action cleanup levels. This removal action in the residential area (OU No. 1) was completed in June of 1994.

On May 10, 1993, the EPA proposed the RSR Site to the National Priorities List (NPL) of Superfund sites (58 FR 27507). On September 29, 1995, the EPA finalized listing of the RSR Corporation Superfund Site on the NPL (60 FR 50435).

Remedial Investigation and Feasibility Study (RI/FS)

OU No. 4

A comprehensive remedial investigation was conducted at the former smelter facility from March through June 1994. Results of the investigation indicated the following:

• Site building, structures, and equipment were in various stages of deterioration. The process building, structures and equipment were found to have very high concentration of lead, cadmium, and arsenic.

• Surface soil results indicated widespread distribution of site-related contaminants such as lead, arsenic, and cadmium at high concentrations.

• Subsurface soil contamination was identified at variable locations with no specific distribution of site contaminants.

• Ground water contamination was indicated in the shallow ground water at the site. However, subsequent pump tests, conducted during the remedial investigation for OU No. 5, indicated that the shallow ground water does not meet the criteria as a potential drinking water source. The City of Dallas provides drinking water to the west Dallas community.

• Drums, waste piles, and debris and laboratory containers were identified during the remedial investigation. These materials were addressed under a non-time critical removal action conducted from May through July 1995.

OU No. 5, Subarea 1

• Deficiencies were observed at the Former Battery Wrecking Facility, including deteriorated concrete, and weakened column bases and roof beams. The former Vehicle Maintenance Building was considered to be structurally sound. Dust on the building surfaces was found to have elevated concentrations of lead, cadmium, and arsenic.

• The former Surface Impoundment was used to collect and neutralize wastewater and waste byproducts from the lead-acid battery crushing operations. Samples drilled through the impoundment indicated that contaminant concentrations decreased with depth. The maximum contaminant concentrations were encountered at the 5 to 6 foot interval.

• Field investigations for other site soils indicted the presence of high contaminants levels in surface and subsurface soils.

Record of Decision

OU No. 4

The major components of the selected remedy for OU No. 4 included:

• Demolition of site building and off-site disposal;

• Demolition of the smelter stack and off-site disposal;

• Excavation of the concrete foundations and contaminated soil and off-site disposal;

• Cap and/or backfill the aerial extent of the site with two (2) feet of clean soil.

OU No. 5, Subarea 1

The major components of the selected remedy for Subarea 1 of OU No. 5 included:

• Decontamination of the former battery wrecking building and the vehicle maintenance building;

• Demolition of the former battery wrecking building and off-site disposal of debris;

• Evaluate existing cap on the former surface impoundment, upgrade or replace as necessary, in order to complete RCRA closure;

• Cap the Slag Burial Area/other Soils Areas that exceed Remedial Action Goals with two (2) feet of clean backfill and re-vegetate with native grasses;

• No action is recommended for the shallow ground water. The shallow ground water beneath OUs Nos. 4 and 5 is not considered to be a potential drinking water supply.

Response Actions

OU No. 4 and OU No. 5 Removal Action

Three areas of immediate concern were identified at OUs 4 and 5 during the field investigation conducted in May 1994. The areas of concern included the presence of 500 waste drums, 73 uncontrolled residual waste/debris piles and approximately 50 laboratory containers. EPA Region 6 conducted a Non-Time Critical Removal Action from May 30, 1995 through July 14, 1995.

Remedial Action OU No. 4

The remedial action for OU No. 4 started on September 26, 2000 and the final field inspection conducted on November 6, 2001. Remedial Action activities for OU No. 4 included:

• Demolition of the smelter facility, bag house building, 250-foot smelter stack, batch house, hog storage building, former cafe building, office/laboratory complex, cafeteria (lunch room) building, filter building, bath house, vehicle maintenance building, former gas station, and miscellaneous structures.

• A total of 1,088 tons of steel from demolition activities were recycled.

• Approximately 11,000 cubic yards of contaminated soil was treated in-situ and disposed of at off-site permitted facilities.

• Approximately 915 cubic yards of debris were treated and disposed at an off-site facility.

• A total of 2,137 cubic yards of construction debris were also treated and disposed of at an off-site permitted facility.

• A total of 910 cubic yards of concrete materials were sent off-site for recycling.

• The site was backfilled with imported clay fill materials and topsoil to a maximum depth of two (2) feet.

• Seven (7) monitoring wells were closed.

Remedial Action OU No. 5, Subarea 1

The Remedial Action activities for Subarea 1 of OU No. 5 began on January 19, 2004, and the final field inspection was conducted on August 3, 2004. Remedial Action activities included:

• Decontamination of site buildings followed by demolition of the Battery Wrecking Building.

• Approximately 245 tons of steel and metal and 923 tons of concrete were recycled at off-site facilities.

• Excess building debris was disposed of at an off-site permitted landfill.

• Contaminated soils and slag materials from throughout the site were consolidated in the Buried Slag Area and capped with a total of two (2) feet of soil material.

• The former Surface Impoundment was cleared of vegetation, re-graded, sloped, and soil added where needed to upgrade the soil cap.

• Two (2) underground storage tanks encountered during the remedial action activities were removed and disposed of at off-site permitted facilities.

Operation and Maintenance (O&M)

The purpose of the O&M activities is to monitor the implemented remedy and insure that the remedy remains protective of human health and the environment. The Operation and Maintenance Plan for Subarea 1 of OU No. 5 was approved by EPA on September 27, 2004. The O&M Plan includes site inspections for the former surface impoundment area, the soil cover for the slag consolidated area, and ground water monitoring of the former surface impoundment. The EPA will implement the O&M Plan with PRP funding.

Institutional Controls

The owner for OU No. 4 and Subarea 1 of OU No. 5 recorded institutional controls in Dallas County on March 29, 2006. The recorded restrictive covenant for OU No. 4 states that: “Invasive digging, unsafe site development or drilling that would disturb the capped areas in place on the land, or any deterioration or damaging of any element of the selected remedy or ROD is prohibited, unless approved by EPA in writing.” The recorded restrictive covenant for Subarea 1 of OU No. 5 states that: “Invasive digging, unsafe site development or drilling that would disturb the capped areas in place or shallow groundwater use on the land, or any deterioration or damaging of any element of the selected remedy or ROD is prohibited, unless approved by EPA in writing.”

Five-Year Review

Consistent with Section 121(c) of CERCLA and requirements of the OSWER Directive 9355.7-03B-P (“Comprehensive Five-Year Review Guidance”, June 2001), a five-year review is required at the RSR Site. The Directive requires the EPA to conduct statutory five-year reviews at sites where, upon attainment of ROD cleanup levels, hazardous substances remaining within restricted areas onsite do not allow unlimited use of the entire site.

Since hazardous substances remain onsite, the RSR Site is subject to five-year reviews to ensure the continued protectiveness of the remedy. Based on the five-year results, the EPA will determine whether human health and the environment continue to be adequately protected by the implemented remedy. The first Five-Year Review was completed on September 29, 2005. The reviews found that the remedy remains protective of human health and the environment.

Community Involvement

Public participation activities have been satisfied as required in CERCLA Section 113(k), 42 U.S.C. 9613(k), and CERCLA Section 117, 42 U.S.C. 9617. Documents in the partial deletion docket which the EPA relied on for recommendation for the partial deletion from the NPL are available to the public in the information repositories.

V. Partial Deletion Action

The EPA, with concurrence of the State of Texas, has determined that all appropriate responses under CERCLA have been completed, and that no further response actions, under CERCLA, other than O&M and five-year reviews, are necessary. Therefore, the EPA is deleting OU No. 4 and Subarea 1 of OU No. 5 from the NPL.

Because the EPA considers this action to be noncontroversial and routine for these operable units, the EPA is taking it without prior publication. This action will be effective October 16, 2007 unless the EPA receives adverse comments by September 17, 2007. If adverse comments are received within the 30-day public comment period, the EPA will publish a timely withdrawal of this direct final notice for partial deletion before the effective date of the partial deletion and it will not take effect. The EPA will prepare a response to comments and continue with the partial deletion process on the basis of the notice of intent for partial deletion and the comments already received. There will be no additional opportunity to comment.

List of Subjects in 40 CFR Part 300

Environmental protection, Air pollution control, Chemicals, Hazardous waste, Hazardous substances, Intergovernmental relations, Penalties, Reporting and recordkeeping requirements, Superfund, Water Pollution control, Water supply.

Dated: August 1, 2007.
Lawrence E. Starfield,
Acting Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended by amending the Superfund site entry for the “RSR Corp, Dallas, TX” by adding a note “P”.

[FR Doc. E7-16062 Filed 8-16-07; 8:45 am]

BILLING CODE 6560-50-P